DEPARTMENT OF ENERGY

Federal Energy Regulatory Commission

Combined Notice of Filings

Take notice that the Commission has received the following Natural Gas Pipeline Rate and Refund Report filings:

Docket Number: PR20-26-000.

Applicants: Columbia Gas of Maryland, Inc.

Description: Tariff filing per 284.123(b),(e)/: CMD SOC Rates effective 12-18-2019 to be effective 12/18/2019. Filing Type: 980.

Filed Date: 1/28/2020.

Accession Number: 20200128-5022.

Comments/Protests Due: 5 p.m. ET 2/18/2020.

Docket Numbers: CP20-46-000.

Applicants: Southern Natural Gas.

Description: Application for the Authorization of Abandonment for Rate Schedules X-48, X-49, X59 and X63 Southern Natural Gas Company, L.L.C under CP20-46.

Filed Date: 1/29/2020.

Accession Number: 20200129-5099.

Comments Due: 5 p.m. ET 2/19/20.

Docket Numbers: RP20-453-000.

Applicants: Iroquois Gas Transmission System, L.P.

Description: Compliance filing 012820 System MAP URL Update, Compliance Filing to be effective 1/29/2020.

Filed Date: 1/28/20.

Accession Number: 20200128-5020.

Comments Due: 5 p.m. ET 2/10/20.

Docket Numbers: RP20-454-000.

Applicants: Southern Star Central Gas Pipeline, Inc.

Description: § 4(d) Rate Filing: Vol. 2—Negotiated Rate Agreement—Scout Energy Group III to be effective 2/1/2020.

Filed Date: 1/29/20.

Accession Number: 20200129-5014.

Comments Due: 5 p.m. ET 2/10/20.

Docket Numbers: RP20-455-000.

Applicants: Transcontinental Gas Pipe Line Company.

Description: § 4(d) Rate Filing: Priority of Service—Clarification and Clean-Up to be effective 2/29/2020.

Filed Date: 1/29/20.

Accession Number: 20200129-5057.

Comments Due: 5 p.m. ET 2/10/20.

Docket Numbers: RP20-456-000.

Applicants: El Paso Natural Gas Company, L.L.C.

Description: § 4(d) Rate Filing: Negotiated Rate Agreement Update (Conoco Feb 20) to be effective 2/1/2020.

Filed Date: 1/29/20.

Accession Number: 20200129-5063.

Comments Due: 5 p.m. ET 2/10/20.

Docket Numbers: RP20-457-000.

Applicants: Algonquin Gas Transmission, LLC.

Description: § 4(d) Rate Filing: Negotiated Rates—Boston Gas 510798 releases eff 2-1-2020 to be effective 2/1/2020.

Filed Date: 1/29/20.

Accession Number: 20200129-5068.

Comments Due: 5 p.m. ET 2/10/20.

Docket Numbers: RP20-458-000.

Applicants: Algonquin Gas Transmission, LLC.

Description: § 4(d) Rate Filing: Negotiated Rates—Boston Gas 510807 releases eff 2-1-2020 to be effective 2/1/2020.

Filed Date: 1/29/20.

Accession Number: 20200129-5073.

Comments Due: 5 p.m. ET 2/10/20.

Docket Numbers: RP20-459-000.

Applicants: Algonquin Gas Transmission, LLC.

Description: § 4(d) Rate Filing: Negotiated Rates—Boston Gas 511109 releases eff 2-1-2020 to be effective 2/1/2020.

Filed Date: 1/29/20.

Accession Number: 20200129-5106.

Comments Due: 5 p.m. ET 2/10/20.

Docket Numbers: RP20-460-000.

Applicants: Cameron Interstate Pipeline, LLC.

Description: § 4(d) Rate Filing: Rate Schedule PAL, Tariff Updates, and Housekeeping Revisions to be effective 3/1/2020.

Filed Date: 1/29/20.

Accession Number: 20200129-5119.

Comments Due: 5 p.m. ET 2/10/20.

Docket Numbers: RP20-461-000.

Applicants: Kinder Morgan Illinois Pipeline LLC.

Description: Compliance filing Penalty Revenue Annual Report for 2019 to be effective N/A.

Filed Date: 1/29/20.

Accession Number: 20200129-5136.

Comments Due: 5 p.m. ET 2/10/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2020.
Kimberly D. Bose,
Secretary.

[FR Doc. 2020-02293 Filed 2-5-20; 8:45 am]

BILLING CODE 6717-01-P